NATIONAL CAPITAL PLANNING COMMISSION

Notice of Public Comment Period and Public Meetings for Updates to the Introduction Chapter of the Comprehensive Plan for the National: Federal Elements

AGENCY: National Capital Planning Commission.

ACTION: Notice of 90-day public comment period and public meetings.

SUMMARY: The National Capital Planning Commission (NCPC) has released a draft of a revised Introduction Chapter of the Comprehensive Plan for the National Capital: Federal Elements for public review. The chapter establishes the planning framework for the Comprehensive Plan's Federal Elements to guide agency actions, including review of projects and long-range plans that affect federal buildings, installations, campuses, and master plans in the National Capital Region. The revisions include references to equity considerations. A Notice of a 90-day Public Comment Period and Public Meetings for updates to the Submission Guidelines related to equity is published elsewhere in this issue of the Federal Register. NCPC will host two public information sessions for the public to learn more about the draft revisions. The draft Introduction Chapter is available online for review at https://www.ncpc.gov/initiatives/Intro.

DATES: The public comment period closes March 12, 2024. A virtual public meeting will be held on Thursday, January 25, 2024 from 12:00 p.m. to 1:30 p.m. Registration information for the meeting can be found at https://www.ncpc.gov/initiatives/Intro. An in-person meeting will be held on February 20, 2024, from 6:00 p.m. to 7:30 at NCPC, which is the same as that for submission of written comments below.

ADDRESSES: Written public comments on the draft may be submitted by either method: U.S. mail, courier, or hand deliver: Introduction Chapter Public Comment, National Capital Planning Commission, 401 9th Street NW, Suite 500N, Washington, DC 20004; or Electronically: https://www.ncpc.gov/initiatives/Intro.

FOR FURTHER INFORMATION CONTACT: Brittney Drakeford at (202) 482-4210 or info@ncpc.gov.

Authority: 40 U.S.C. 8721(e)(2).

Dated: December 7, 2023.
Anne R. Schuyler,
General Counsel.

[FR Doc. 2023-27285 Filed 12-12-23; 8:45 am]

BILLING CODE P